DEPARTMENT OF TRANSPORTATION

Federal Aviation Administration

Second Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The Meeting will be held July 23-24, 2007 starting July 23, at 1 p.m.-5 p.m. or later as required and July 24 from 9 a.m. to 4 p.m.

ADDRESSES: The meeting will be held at RTCA, Inc., 1828 L Street, NW., Suite 805, Washington, DC 20036.

FOR FURTHER INFORMATION CONTACT: RTCA Secretariat, 1828 L Street, NW., Suite 805, Washington DC 20036; telephone (202) 833-9339; fax (202) 833-9434; Web site http://www.rtca.org for directions. Note: Dress is business casual.

SUPPLEMENTARY INFORMATION: Pursuant to section 10(a)(2) of the Federal Advisory Committee Act (Pub. L. 92-463, 5 U.S.C., Appendix 2), notice is hereby given for a Special Committee 215 meeting. The agenda will include:

• July 23-24:

• Opening Plenary Session (Welcome, Introductions, and Administrative Remarks, Review and Approval of Agenda for Second Plenary).

• Review and Approval of First Meeting Summary (215-008; RTCA Paper No. 141-07/SC215-003).

• Outcome of PMC Meeting—Request for Change to SC-215 TOR.

FAA Issue Table—Outstanding Actions (215-005).

• NSF-Radio Astronomy Issue (Iridium).

• Iridium-Inmarsat Interference White Paper (Aircell).

• Use of Proprietary Information.

• DO-262—Reports from Drafting Groups; Review of Document Outlines.

• Section 1—Overview (M. Meza, Iridium).

• Section 2—Avionics Subsystem Definition/Overall Requirements (J. Becker, Wingspeed).

• Section 3—Antenna (K. Blomgren, Dayton-Granger).

• Section 4—Transceiver (M. Meza, Iridium).

• Section 5—Avionics Design and Performance ( A. Jabs, ICG).

• Section 6—Avionics Equipment Performance Verification (B. Pemberton, ARINC).

• Section 7—Aircraft Installation Design Requirements (S. Niessner, Aircell).

• Section 8—Requirements Mapping (M. Meza, Iridium).

• DO-270.

• Report from FAA-Iridium Meetings.

• Iridium Review of DO-270 Requirements.

• Discussion of Requirements for Normative Appendix.

• Closing Plenary Session (Other Business, Schedule Next Plenary Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 14, 2007.
Francisco Estrada C.,
RTCA Advisory Committee.

[FR Doc. 07-3069 Filed 6-22-07; 8:45 am]

BILLING CODE 4910-13-M